DEPARTMENT OF LABOR

Office of Disability Employment Policy

Agency Information Collection Activities; Comment Request; Retaining Employment and Talent After Injury/Illness Network (RETAIN) Demonstration Projects and Evaluation

ACTION: Notice of information collections and request for comments.

SUMMARY: In compliance with the Paperwork Reduction Act of 1995, the DOL is soliciting public comments regarding this Office of Disability Employment Policy (ODEP) -sponsored information collection to the Office of Management and Budget (OMB) for review and approval.

DATES: Comments pertaining to this information collection are due on or before January 11, 2022.

ADDRESSES: Electronic submission: You may submit comments and attachments electronically at http://www.regulations.gov. Follow the online instructions for submitting comments. Mail submission: 200 Constitution Ave. NW, Room S-5315, Washington, DC 20210.

Comments are invited on: (1) Whether the collection of information is necessary for the proper performance of the functions of the DOL, including whether the information will have practical utility; (2) if the information will be processed and used in a timely manner; (3) the accuracy of the DOL's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: David Rosenblum by telephone at 202-693-7840 (this is not a toll-free number) or by email at DOL_PRA_PUBLIC@dol.gov.

SUPPLEMENTARY INFORMATION: In FY 2018, the Department of Labor and the Social Security Administration launched a collaboration to develop and test promising stay-at-work/return-to-work (SAW/RTW) early intervention strategies and evaluate outcomes for individuals who are experiencing work disability.¹ Each year, millions of American workers leave the workforce after experiencing an injury or illness, and hundreds of thousands of these workers go on to receive state or federal disability benefits. The socio-economic impacts of these injuries and illnesses on individuals, employers, and all levels of government can be significant and long-lasting. SAW/RTW programs succeed by returning injured workers to productive work as soon as medically possible by providing interim part-time or light duty work and accommodations, as necessary.

¹ For the purposes of RETAIN, the term “work disability” is defined as an illness, injury, or medical condition that has the potential to inhibit or prevent continued employment or labor force participation, and “federal disability benefits” refers specifically to the Social Security Disability Insurance (SSDI) and Supplemental Security Income (SSI) programs. See https://www.ssa.gov/disability/ for more information on SSDI and SSI.

The RETAIN Demonstration Projects are modeled after promising programs currently operating in Washington State, including the Centers of Occupational Health and Education (COHE), the Early Return to Work (ERTW), and the Stay at Work programs. While these programs operate within the state's workers' compensation system and are available only to individuals experiencing work-related injuries or illnesses, the RETAIN Demonstration Projects provide opportunities to improve SAW/RTW outcomes for individuals with both occupational and non-occupational injuries and illnesses.

The primary goals of the RETAIN Demonstration Projects are:

1. To increase employment retention and labor force participation of individuals who acquire, and/or are at risk of developing, work disabilities; and

2. To reduce long-term work disability among project participants, including the need for federal disability benefits (i.e., Social Security Disability Insurance [SSDI] and Supplemental Security Income [SSI]).

During FY 2018, eight states received funding through cooperative agreements to create systems changes by developing and implementing partnerships and strategies to test the effects of the provision of comprehensive, coordinated health and employment-related services and supports to injured or ill workers who have acquired, or are at risk of developing, a work disability. In Phase 1, these grantees completed start-up activities and launched a small pilot. In FY 2021, five of these grantees (Kansas, Kentucky, Minnesota, Ohio, and Vermont) were competitively awarded Phase 2 funding for a performance period of four years (2021-2024), enabling them to expand and scale up their pilot to full implementation.

The purpose of the RETAIN employee participant information collection is to understand and assess RETAIN program start-up, pilot projects, and full implementation. Two baseline forms are required to be completed for each participant enrolling in RETAIN, whether in the treatment group or in the control group. The first form is completed by the enrollees themselves, while the second form is completed by a combination of the healthcare provider and Return-to-Work Coordinator, based on information provided by the enrollee. This information collection was approved by OMB in May 2019 with an expiration date of May 31, 2022. An extension is requested for another three years, to last through Phase 2 information collection activities.

This information collection is subject to the Paperwork Reduction Act (PRA). A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

The DOL seeks PRA authorization for this information collection for three (3) years. OMB authorization for an Information Collection Review cannot be for more than three (3) years without renewal. The DOL notes that currently approved information collection requirements submitted to the OMB receive a month-to-month extension while they undergo review.

Agency: DOL-ODEP.

Type of Review: Extension.

Title of Collection: Retaining Employment and Talent after Injury/Illness Network (RETAIN) Demonstration Projects and Evaluation.

OMB Control Number: 1230-0014.

Affected Public: Individuals or Households.

Total Estimated Annual Number of Respondents: 5,213.

Frequency: Once per respondent.

Total Estimated Annual Number of Responses: 5,213.

Total Estimated Annual Time Burden: 1,738 hours.

Total Estimated Annual Other Costs Burden: $0.

Estimated Hours of Burden Due to Baseline Enrollee Data Collection—Years 1-3
Awardee | Number of respondents | Hrs/response | Hours
State 1 | 4,000 | 0.33 | 1,333
State 2 | 3,200 | 0.33 | 1,067
State 3 | 3,200 | 0.33 | 1,067
State 4 | 3,200 | 0.33 | 1,067
State 5 | 2,040 | 0.33 | 680
Year 1, Total | 5,213 | 0.33 | 1,738
Year 2, Total | 5,213 | 0.33 | 1,738
Year 3, Total | 5,213 | 0.33 | 1,738
Three-year Total | 15,640 | 0.33 | 5,213

Authority: 44 U.S.C. 3506(c)(2)(A).

Dated: November 8, 2021.
Taryn Williams,
Assistant Secretary, Office of Disability Employment Policy.

[FR Doc. 2021-24713 Filed 11-10-21; 8:45 am]

BILLING CODE 4510-FK-P